DEPARTMENT OF COMMERCE

National Oceanic and Atmospheric Administration

RIN 0648-XE264

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Ecosystem Based Fishery Management Committee to consider actions affecting New England fisheries in the exclusive economic zone (EEZ). Recommendations from this group will be brought to the full Council for formal consideration and action, if appropriate.

DATES: This meeting will be held on Tuesday, November 10, 2015 at 9 a.m.

ADDRESSES: The meeting will be held at the Fairfield Inn & Suites, 185 MacArthur Drive, New Bedford, MA 02740; telephone: (774) 634-2000; fax: (774) 634-2001.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will receive a progress report and provide guidance to the Plan Development Team on the development of an example Fishery Ecosystem Plan (FEP). This meeting will focus on the FEP components, strawman goals and objectives and a summary of how various ecosystem models address FEP data needs. The Committee will also formulate comments on NOAA Fisheries Draft Ecosystem-Based Fisheries Management Policy (http://s3.amazonaws.com/nefmc.org/2_Draft-EBFM-Policy-9.9.2015-for-release.pdf). Final comments on the Draft Policy will be approved at the December 2015 Council meeting.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 20, 2015.
Tracey L. Thompson,
Acting Deputy Director, Office of Sustainable Fisheries, National Marine Fisheries Service.

[FR Doc. 2015-27005 Filed 10-22-15; 8:45 am]

BILLING CODE 3510-22-P